DEPARTMENT OF LABOR

Employee Benefits Security Administration

Prohibited Transaction Exemptions: Morgan Stanley & Co., Inc. and Its Current and Future Affiliates and Subsidiaries and Union Bank, N.A., and Its Affiliates; The Bank of New York Mellon Corp.; Boston Carpenters Apprenticeship and Training Fund; Correction

AGENCY: Employee Benefits Security Administration, Department of Labor (the Department).

ACTION: Notice of technical correction.

In the June 11, 2010 issue of the Federal Register, the Department published separate administrative exemptions from the prohibited transaction provisions of the Employee Retirement Income Security Act of 1974 (the Act) and the Internal Revenue Code of 1986 for: (1) Morgan Stanley & Co., Inc., and Its Current and Future Affiliates and Subsidiaries and Union Bank, N.A., and Its Affiliates (hereinafter “the Morgan Stanley Grant”); and (2) The Bank of New York Mellon Corporation (hereinafter “the BNY Mellon Grant”). The Department also published, in the same issue of the Federal Register, an administrative exemption from the prohibited transaction provisions of the Act for the Boston Carpenters Apprenticeship and Training Fund (hereinafter “the Boston Carpenters Grant”).

The Department notes that the operative language of the Morgan Stanley Grant (which begins at the middle of the third column of page 33333 of the June 11, 2010 issue of the Federal Register after the italicized heading “Exemption”) was not preceded by the customary caption indicating the prohibited transaction grant number and the corresponding exemption application file number. Accordingly, to correct this publication error, the following caption should be inserted immediately before the italicized heading “Exemption” on page 33333, third column:

[Prohibited Transaction Exemption 2010-16; Exemption Application Number D-11521]

In addition, the Department notes that the operative language of the BNY Mellon Grant (which begins at the middle of the first column of page 33338 of the June 11, 2010 issue of the Federal Register after the italicized heading “Exemption”) was not preceded by the customary caption indicating the name of the entity seeking the exemption, the prohibited transaction exemption grant number, and the exemption application file number. Accordingly, to correct this publication error, the following caption should be inserted immediately before the italicized heading “Exemption” on page 33338, first column:

The Bank of New York Mellon Corporation (BNY Mellon), Located in Pittsburgh, Pennsylvania

[Prohibited Transaction Exemption 2010-17; Exemption Application Number D-11584]

In addition, the Department notes that the operative language of the Boston Carpenters Grant (which begins at the middle of the third column of page 33338 of the June 11, 2010 issue of the Federal Register after the italicized heading “Exemption”) was not preceded by the customary caption indicating the name of the entity seeking the exemption, the prohibited transaction exemption grant number, and the exemption application file number. Accordingly, to correct this publication error, the following caption should be inserted immediately before the italicized heading “Exemption” on page 33338, third column:

Boston Carpenters Apprenticeship and Training Fund (the Fund), Located in Boston, Massachusetts

[Prohibited Transaction Exemption 2010-18; Exemption Application Number L-11558]

FOR FURTHER INFORMATION CONTACT: Mr. Mark Judge, Office of Exemption Determinations, Employee Benefits Security Administration, U.S. Department of Labor, Washington, DC at (202) 693-8550 (this is not a toll-free number).

Signed at Washington, DC, this 11th day of June 2010.
Ivan L. Strasfeld,
Director of Exemption Determinations, Employee Benefits Security Administration, Department of Labor.

[FR Doc. 2010-14566 Filed 6-15-10; 8:45 am]

BILLING CODE 4510-29-P